DEPARTMENT OF ENERGY

Federal Energy Regulatory Commission

[Docket No. RP02-132-000]

Viking Gas Transmission Company; Notice of Tariff Filing

January 2, 2002.

Take notice that on December 28, 2001, Viking Gas Transmission Company (Viking) tendered for filing as part of its FERC Gas Tariff, First Revised Volume No. 1 the tariff sheets listed on Attachment A (Primary Case) and Attachment B (Pro Forma Case) to the filing. Viking requests an effective date of July 1, 2002 for the tariff sheets listed on Attachment A and, accordingly, requests that the Commission suspend this filing for the maximum statutory period of five months.

Viking respectfully requests that the Commission allow Viking's Pro Forma Case to become effective only after a final Commission order on this proceeding. Should the Commission accept Viking's Pro Forma Case, Viking will submit actual tariff sheets in place of the Pro Forma tariff sheets to be effective on a prospective basis.

Viking states that the purpose of this filing is to revise Viking's rates for jurisdictional services to reflect current and projected costs and changes in demand on Viking's system. Viking is also filing to adopt term-differentiated rates and a demand rate for Daily Demand Service under Rate Schedule LMS, to change scheduling priority for interruptible services to ensure that capacity is allocated to those shippers that most value it and to provide for the termination of interruptible contracts with shippers who have not exercised any contractual rights for firm, interruptible or load management services for at least one year. In its Pro Forma Case, Viking is proposing to roll-in the costs of facilities installed during the 1999 expansion project approved by the Commission in Docket Nos. CP98-761-000. This project is appropriate for rolled-in rate treatment due to the significant systemwide reliability and operational benefits it provides to pre-expansion customers.

Viking states that copies of the filing have been mailed to all of its jurisdictional customers and to affected state regulatory commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-357 Filed 1-7-02; 8:45 am]

BILLING CODE 6717-01-P